DEPARTMENT OF HEALTH AND HUMAN SERVICES

Health Resources and Services Administration

Agency Information Collection Activities: Proposed Collection: Public Comment Request; Information Collection Request Title: Substance Use Disorder Treatment and Recovery Loan Repayment Program and the Pediatric Specialty Loan Repayment Program—OMB No. 0906-0058—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than October 14, 2025.

ADDRESSES: Submit your comments to paperwork@hrsa.gov or mail the HRSA Information Collection Clearance Officer, Room 14NWH04, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Substance Use Disorder Treatment and Recovery Loan Repayment Program and the Pediatric Specialty Loan Repayment Program, OMB No. 0906-0058—Revision.

Abstract: The Substance Use Disorder Treatment and Recovery (STAR) Loan Repayment Program (LRP) is authorized by section 781 of the Public Health Service Act (42 U.S.C. 295h). This program allows HRSA to provide the repayment of eligible education loans to individuals working in an eligible full-time substance use disorder treatment job that involves direct treatment or recovery support of patients with or in recovery from a substance use disorder and which is located in either a Health Professional Shortage Area (HPSA) designated for Mental Health, or a county (or municipality, if not contained within any county) where the average drug overdose death rate per 100,000 people over the past 3 years for which official data is available from the State, is higher than the most recent available national average overdose death rate per 100,000 people, as reported by the Centers for Disease Control and Prevention. The Pediatric Specialty LRP is authorized by section 775 of the Public Health Service Act (42 U.S.C. 295f). This program allows HRSA to provide the repayment of education loans to eligible providers working full-time in or serving a HPSA, medically underserved area (MUA), or medically underserved population (MUP).

The Department of Health and Human Services agrees to make payment of up to $250,000 for the repayment of eligible educational loans in return for 6 years of obligated service through the STAR LRP, and up to $100,000 in return for 3 years of obligated service through the Pediatric Specialty LRP.

Eligible disciplines for the STAR LRP include, but are not limited to physicians, psychologists, psychiatric nurses, marriage and family therapists, social workers, counselors, and substance use disorder counselors. The Pediatric Specialty LRP may make awards to applicants participating in an accredited pediatric medical subspecialty, pediatric surgical specialty, and child and adolescent mental health subspecialty residency or fellowship employed as a pediatric medical subspecialist, pediatric surgical specialist, or child and adolescent mental health professional.

Eligible facilities or sites for the STAR LRP and Pediatric Specialty LRP include, but are not limited to: School-Based Clinics, Community Health Centers, Inpatient Programs/Rehabilitation Centers, Federally Qualified Health Centers, Centers for Medicare & Medicaid Services-approved Critical Access Hospitals, American Indian Health Facilities (Indian Health Service Facilities, Tribally-Operated 638 Health Programs, and Urban Indian Health Programs), inpatient rehabilitation centers, and psychiatric facilities. STAR LRP facilities must be located in a mental health HPSA or a county where the average drug overdose death rate exceeds the national average, as described above. Pediatric Specialty LRP sites must provide pediatric medical subspecialty care, pediatric surgical specialty care, or child and adolescent mental and behavioral health care in or to a HPSA, MUA, or MUP. HRSA will approve and activate sites for the Pediatric Specialty LRP if:

(1) The facility is already approved for the National Health Service Corps, Nurse Corps, or STAR LRP and located in or serves a HPSA, MUA or MUP; or

(2) During the Pediatric Specialty LRP application cycle, the facility submits to HRSA the site type and the point of contact(s) to PS_LRP_Sites@hrsa.gov.

HRSA will review and approve eligible new facilities during the respective application cycle for the STAR LRP and the Pediatric Specialty LRP, or upon request by a STAR LRP participant. New facilities must submit to HRSA the facility type and the recruitment contact(s). HRSA will use the information collected to determine eligibility of the facility for participants in the respective program. Note: Despite the similarity in the titles, the STAR LRP is not the existing National Health Service Corps Substance Use Disorder Workforce LRP (OMB #0915-0127), which is authorized under Title III of the Public Health Service Act. The STAR LRP is authorized under Title VII of the Public Health Service Act and has different service requirements, loan repayment protocols, and authorized employment facilities.

Need and Proposed Use of the Information: The need and purpose of this information collection is to obtain information that is used to assess an applicant's eligibility and qualifications for the STAR LRP and the Pediatric Specialty LRP, and to obtain information for eligible facilities or sites. Clinicians interested in participating in the STAR LRP or the Pediatric Specialty LRP must apply to the applicable program to participate. The forms utilized by the STAR LRP and the Pediatric Specialty LRP include the following: the STAR LRP or Pediatric Specialty LRP Application, respectively, the Authorization for Disclosure of Loan Information form, the Privacy Act Release Authorization form, and the electronic Employment Verification form, if applicable. The forms collect information needed for selecting participants and repaying eligible educational loans.

Additionally, health care facilities located in high overdose death rate areas or mental health HPSAs must submit the facility type and the site point(s) of contact(s) for HRSA to determine the facility's eligibility to participate in the STAR LRP. Similarly, sites located in or serving a HPSA, MUA, or MUP must submit the site type and the site point(s) of contact(s) for HRSA to determine the sites' eligibility to participate in the Pediatric Specialty LRP. The STAR LRP and the Pediatric Specialty LRP application asks for personal, professional, and financial information needed to determine the applicant's eligibility to participate in either of the programs. In addition, applicants must provide information regarding the loans for which repayment is being requested.

Likely Respondents: Licensed medical, mental, and behavioral health providers who are employed or seeking employment and are interested in serving underserved populations; and health care facilities or sites interested in becoming approved for the STAR LRP and/or the Pediatric Specialty LRP.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours for the STAR LRP
Form name | Number of respondents | Number of responses per respondent | Total responses | Average burden per response (in hours) | Total burden hours
STAR LRP Application | 1,700 | 1 | 1,700 | 0.50 | 850
Authorization for Disclosure of Loan Information Form | 1,700 | 1 | 1,700 | 0.50 | 850
Privacy Act Release Authorization Form | 1,700 | 1 | 1,700 | 0.50 | 850
Employment Verification Form | 1,700 | 1 | 1,700 | 0.50 | 850
Total | 1,700 |  | 6,800 |  | 3,400

Total Estimated Annualized Burden Hours for the Pediatric Specialty LRP
Form name | Number of respondents | Number of responses per respondent | Total responses | Average burden per response (in hours) | Total burden hours
Pediatric Specialty LRP Application | 500 | 1 | 500 | 0.50 | 250
Authorization for Disclosure of Loan Information Form | 500 | 1 | 500 | 0.50 | 250
Privacy Act Release Authorization Form | 500 | 1 | 500 | 0.50 | 250
Employment Verification Form | 500 | 1 | 500 | 0.50 | 250
Total | 500 |  | 2,000 |  | 1,000

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2025-15348 Filed 8-12-25; 8:45 am]

BILLING CODE 4165-15-P